DEPARTMENT OF COMMERCE

Economic Development Administration

National Telecommunications and Information Administration

Bureau of Industry and Security

Minority Business Development Agency

Membership of the Performance Review Board for EDA, NTIA, BIS and MBDA

AGENCY: EDA, NTIA, BIS, and MBDA Department of Commerce.

ACTION: Notice of Membership on the EDA, NTIA, BIS and MBDA's Performance Review Board.

SUMMARY: The EDA, NTIA, BIS and MBDA, Department of Commerce (DOC), announce the appointment of those individuals who have been selected to serve as members of the Performance Review Board.

DATES: The period of appointment for those individuals selected for EDA, NTIA, BIS and MBDA's Performance Review Board begins on October 3, 2018.

FOR FURTHER INFORMATION CONTACT: Joan Nagielski, U.S. Department of Commerce, Office of Human Resources Management, Department of Commerce Human Resources Operations Center, Office of Employment and Compensation, 14th and Constitution Avenue NW, Room 50013, Washington, DC 20230, at (202) 482-6342.

SUPPLEMENTARY INFORMATION: In accordance with 5 U.S.C. 4314 (c) (4), the EDA, NTIA, BIS and MBDA, Department of Commerce (DOC), announce the appointment of those individuals who have been selected to serve as members of EDA, NTIA, BIS and MBDA's Performance Review Board. The Performance Review Board is responsible for (1) reviewing performance appraisals and ratings of Senior Executive Service (SES) and Senior Level (SL) members and (2) making recommendations to the appointing authority on other Performance management issues, such as pay adjustments, bonuses and Presidential Rank Awards for SES and SL members. The Appointment of these members to the Performance Review Board will be for a period of twenty-four (24) months.

The name, position title, and type of appointment of each member of the Performance Review Board are set forth below:

1. Department of Commerce, Bureau of Industry and Security (BIS)

John Sonderman, Deputy Director for Office of Export Enforcement, Career SES

2. Department of Commerce, National Telecommunications and Information Administration (NTIA)

John Morris, Associate Administrator for Policy Analysis and Development, Career SES

3. Department of Commerce, Economic Development Agency (EDA)

Phillip Paradice, Jr., Regional Director for Atlanta Office, Career SES

4. Department of Commerce, National Telecommunications and Information Administration (NTIA)

Frank Freeman, Chief Administrative Officer, First Responder Network Authority, Career SES

5. Department of Commerce, National Telecommunications and Information Administration (NTIA)

Kim Farington, Chief Financial Officer, First Responder Network Authority, Career SES

6. Department of Commerce, Office of the General Counsel, Office of the Secretary (OGC/OS)

Brian DiGiacomo, Assistant General Counsel for Employment, Litigation, and Information Law, Career SES

7. Department of Commerce, Minority Business Development Agency (MBDA)

Edith McCloud, Associate Director for Management, Career SES

8. Department of Commerce, National Telecommunications and Information Administration (NTIA)

Douglas Kinkoph, Associate Administrator for Office of Telecommunications and Information Applications, Career SES

Dated: September 28, 2018.
Joan M. Nagielski,
Human Resources Specialist, Office of Employment and Compensation, Department of Commerce Human Resources Operations Center, Office of Human Resources Management, Office of the Secretary, Department of Commerce.

[FR Doc. 2018-21526 Filed 10-2-18; 8:45 am]

BILLING CODE 3510-25-P